DEPARTMENT OF THE INTERIOR

National Park Service

[N6331; NPS-WASO-NAGPRA-NPS0040520; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain cultural items that meet the definition of sacred objects/objects of cultural patrimony and that have a cultural affiliation with the Indian Tribes or Native Hawaiian organizations in this notice.

DATES: Repatriation of the cultural items in this notice may occur on or after August 27, 2025.

ADDRESSES: Send additional, written requests for repatriation of the cultural items in this notice to Julia Cronin, Turtle Bay Exploration Park, 844 Sundial Bridge Drive, Redding, CA 96001, email jcronin@turtlebay.org.

SUPPLEMENTARY INFORMATION: This notice is published as part of the National Park Service's administrative responsibilities under NAGPRA. The determinations in this notice are the sole responsibility of TBEP, and additional information on the determinations in this notice, including the results of consultation, can be found in the summary or related records. The National Park Service is not responsible for the determinations in this notice.

Abstract of Information Available

A total of 38 cultural items have been requested for repatriation. The 38 sacred objects/objects of cultural patrimony are basketry, regalia, personal items, adornments, a fishing implement, and a stone tool. These belongings have been determined to be of Yurok origin and craftsmanship.

A “tourist trinket” basket and a leather-and-bear-claw headdress were purchased by the Redding Museum and Art Center (RMAC; TBEP's founding institution) in 1963 from Fred Taber. Taber's father (1882-1959) owned an antique shop in Central Valley, CA, through which he amassed a personal collection of Native American items.

Two dentalium necklaces (one with abalone), a fine basket cap, an elk horn purse, and a cradle basket were purchased from Emilie Hoag Buckingham (1911-1997) in 1964. Emilie's large basket collection was primarily amassed by her grandmother, Emily Perkins Smith (1842-?), and added to by her mother Maude Smith Hoag (1872-1957); both lived in the San Francisco Bay Area. The collection was housed at the California State Indian Museum for a period of time before coming to RMAC in 1964.

In 1968, Mrs. Evelyn Wood of Anderson, CA, donated a basket cap (c. 1950). She received it from friends while working as a social worker along the Klamath River between 1950 and 1955. Later in 1968, I.T. Riley donated a doll cradle basket (c. 1920), made for Irene Temerance Miller at Requa, CA.

In 1971, the Redding Museum League raised funds for RMAC to purchase a clamshell necklace from the Alice Dunaway collection through Fred Casebeer. Alice, a collector from Happy Camp, CA, began acquiring baskets in 1921 and continued until her death in 1982. Many of the baskets were made by her Karuk mother, accepted as payment for room and board, or acquired for their beauty.

On April 19, 1972, the Museum purchased a pair of abalone and dentalia hair ties, mink and woodpecker hair wraps, and a mink and woodpecker wrap purse from John Becker of Eureka, CA, and accessioned them in 1973. These items originated from Mettah Village in Yurok territory.

In 1974, RMAC purchased a basalt maul from Geddes Harper of Eureka, CA, attributed to the Coastal Yurok. It was accessioned the same year.

In 1976, from Don Boyd of Redding, RMAC acquired a fishing spear toggle composed of pitch with a modern nail as a point. Boyd was an artist and art instructor at Shasta College, involved in their Archaeology Program, and an avocational archaeologist. He was also an avid collector of art and Indigenous belongings.

In 1981, the Museum purchased two basketry items from the large collection of Mrs. V. Lovell of Sacramento, CA. These included a “tourist-type” bowl (c. 1920) and a cap.

In 1982, RMAC purchased three baskets from the Clarke Museum in Eureka, CA which deaccessioned a small portion of its Native American basketry to other nonprofit institutions in accordance with its bylaws. The baskets included a flour tray (c.1870-1880), a food drying basket (c.1920), and a storage basket (c.1890), the latter attributed to Coastal Yurok.

In 1990, the Museum acquired 10 basketry items from Agnes Rodli, who obtained them while living in Weitchpec, CA, between 1945 and 1947. The collection includes a tobacco basket, a plaque, two bowls, three miniature cradles, a miniature gathering basket, a miniature bowl, and a miniature eel trap, all dating from the 1940s.

In 2014, Carolyn Bond donated a basket bowl, a basket bottle, and two basket caps from her personal collection. The bowl appears to have been designed for a lid, though none accompanied it to the Museum. Carolyn acquired the bowl in 1970 and the bottle in 1972. The caps were purchased in 1975 from Mrs. Argo of Old Station, CA. Carolyn, former Museum Director of RMAC, acquired these baskets before assuming the role in 1977 and retired in 1988.

In 2019, Jack Hauenstein, an avid collector of Indigenous belongings, baskets in particular, donated four baskets to TBEP. These included three bowls and one tobacco basket.

TBEP does not treat Indigenous belongings with hazardous materials. However, it is not documented whether these items received treatment prior to the care of RMAC.

Determinations

Turtle Bay Exploration Park has determined that:

• The 38 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Pulikla Tribe of Yurok People (previously listed as Resighini Rancheria, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 27, 2025. If competing requests for repatriation are received, TBEP must determine the most appropriate requestor prior to repatriation. Requests for joint repatriation of the cultural items are considered a single request and not competing requests. TBEP is responsible for sending a copy of this notice to the Indian Tribes and Native Hawaiian organizations identified in this notice and to any other consulting parties.

Authority: Native American Graves Protection and Repatriation Act, 25 U.S.C. 3004 and the implementing regulations, 43 CFR 10.9.

Dated: July 1, 2025.
Melanie O'Brien,
Manager, National NAGPRA Program.

[FR Doc. 2025-14165 Filed 7-25-25; 8:45 am]

BILLING CODE 4312-52-P